DEPARTMENT OF TRANSPORTATION

Federal Aviation Administration

14 CFR Part 39

[Docket No. 96-ANE-40-AD; Amendment 39-13212; AD 97-18-02R1]

RIN 2120-AA64

Airworthiness Directives; Hartzell Propeller Inc. ( )HC-( )(2,3)(X,V)( )-( ) Series and HA-A2V20-1B Series Propellers with Aluminum Blades; Correction

AGENCY: Federal Aviation Administration, DOT.

ACTION: Final rule; correction.

SUMMARY: This document makes a correction to Airworthiness Directive (AD) 97-18-02R1 applicable to Hartzell Propeller Inc. ( )HC-( )(2,3)(X,V)( )-( ) series and HA-A2V20-1B series propellers with aluminum blades that was published in the Federal Register on June 26, 2003 (68 FR 37960). The Amendment number was omitted from the second paragraph of the Amendatory Language Section. This document corrects that omission. In all other respects, the original document remains the same.

EFFECTIVE DATE: Effective June 26, 2003.

FOR FURTHER INFORMATION CONTACT: Tomaso DiPaolo, Aerospace Engineer, Chicago Aircraft Certification Office, FAA, Small Airplane Directorate, 2300 East Devon Ave., Des Plaines, IL 60018; telephone (847) 294-7031; fax (847) 294-7834.

SUPPLEMENTARY INFORMATION: A final rule AD, FR Doc, 03-15991, applicable to Hartzell Propeller Inc. ( )HC-( )(2,3)(X,V)( )-( ) series and HA-A2V20-1B series propellers with aluminum blades, was published in the Federal Register on June 26, 2003 (68 FR 37960). The following correction is needed:

§ 39.13 [Corrected]

On page 37960, in the third column, in the Amendatory Language Section, in the second paragraph, in the second from the last line, “Amendment 39-XXXXX” is corrected to read “Amendment 39-13212”.

Issued in Burlington, MA, on June 26, 2003.
Francis A. Favara,
Assistant Manager, Engine and Propeller Directorate, Aircraft Certification Service.

[FR Doc. 03-17018 Filed 7-7-03; 8:45 am]

BILLING CODE 4910-13-P